DEPARTMENT OF ENERGY

Federal Energy Regulatory Commission

[Docket No. RP95-136-016]

Williams Gas Pipelines Central, Inc.; Notice of Refund Report

December 21, 2000.

Take notice that on December 18, 2000 Williams Gas Pipeline Central, Inc. (Williams) tendered for filing its interruptible excess refund report for the twelve-month period ended September 2000.

Williams stated that a copy of its filing was served on all participants listed on the service list maintained by the Commission in the docket referenced above and on all of Williams' jurisdictional customers and interested state commissions.

Any person desiring to protest said filing should file a protest with the Federal Energy Regulatory Commission, 888 First Street, NE., Washington, DC 20426, in accordance with section 385.211 of the Commission's Rules and Regulations. All such protests must be filed on or before December 28, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-33100 Filed 12-27-00; 8:45 am]

BILLING CODE 6717-01-M